DEPARTMENT OF THE INTERIOR

Office of the Secretary

[18XD4523WS/DWSN00000.000000/DS61500000/DP.61501]

Invasive Species Advisory Committee; Public Meeting

AGENCY: Policy and International Affairs, Interior.

ACTION: Notice of public meeting of the Invasive Species Advisory Committee.

SUMMARY: Pursuant to the provisions of the Federal Advisory Committee Act, notice is hereby given of a meeting of the Invasive Species Advisory Committee.

DATES: Teleconference Meeting of the Invasive Species Advisory Committee (ISAC) will be held on Tuesday, November 13, 2018; 1:00-3:00 p.m. (EDT).

ADDRESSES: U.S. Department of the Interior, Stuart Udall Building (MIB), 1849 C Street NW, Kiowa Room (basement), Washington, DC 20240. All visiting members of the public must be cleared through building security prior to being escorted to the meeting location. At least 48 hours prior to the meeting, please call the number listed in this notice for pre-clearance.

FOR FURTHER INFORMATION CONTACT: Kelsey Brantley, Coordinator for National Invasive Species Council (NISC) and ISAC Operations, (202) 208-4122; Fax: (202) 208-4118, email: kelsey_brantley@ios.doi.gov.

SUPPLEMENTARY INFORMATION: The purpose of the ISAC is to provide advice to the NISC, as authorized by Executive Orders 13112 and 13751, on a broad array of issues related to preventing the introduction of invasive species and providing for their control and minimizing the economic, ecological, and human health impacts that invasive species cause. The NISC is co-chaired by the Secretary of the Interior, the Secretary of Agriculture, and the Secretary of Commerce. The duty of the NISC is to provide national leadership regarding invasive species issues.

The purpose of the meeting on Tuesday, November 13, 2018 via teleconference, in lieu of physical travel, is to convene the full ISAC to plan for the final project and in-person meeting for ISAC Class 9.

Members of the public are welcome to participate by accessing the teleconference. Other than during the public comment period, public participation is in an observer capacity. The toll-free conference phone number and access code can be obtained by calling 202-208-4122, or visiting the NISC Secretariat's website, www.invasivespecies.gov. Accommodation is also being made for the public to join the teleconference at the U.S. Department of the Interior Stuart Udall Building in Washington, DC.

Note: The maximum capacity of the teleconference is 100 participants. For record keeping purposes, participants will be required to provide their name and contact information to the operator before being connected.

Public Availability of Comments

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Stanley W. Burgiel,
Assistant Director, National Invasive Species Council Secretariat.

[FR Doc. 2018-23587 Filed 10-26-18; 8:45 am]

BILLING CODE 4334-63-P